DEPARTMENT OF AGRICULTURE

Food Safety and Inspection Service

[Docket No. FSIS-2020-0027]

National Advisory Committee on Meat and Poultry Inspection

AGENCY: Food Safety and Inspection Service, USDA.

ACTION: Notification of public meeting.

SUMMARY: Pursuant to the provisions of the rules and regulations of the Department of Agriculture and the Federal Advisory Committee Act (FACA), the Food Safety and Inspection Service (FSIS) is announcing a virtual meeting of the National Advisory Committee on Meat and Poultry Inspection (NACMPI). The committee is authorized under the Federal Meat Inspection Act and Poultry Products Inspection Act and operates in compliance with the Federal Advisory Committee Act. The committee will convene virtually on September 24-25, 2020. The objective of the public meeting is for the Committee to review and advise about the steps FSIS should take to ensure better control of artisanal, shelf-stable ready-to-eat (RTE) fermented, salt-cured, or dried products that rely on multiple hurdles for lethality. NACMPI will also review and advise whether the Agency should continue not to test boxed beef primal and sub-primal products for Shiga toxin-producing E. coli (STEC), if they are intended for intact cuts.

DATES: The virtual public meeting is scheduled for September 24-25, 2020. NACMPI will meet from 8 a.m.-9:30 a.m. EST on September 24, 2020 for administrative purposes. This portion of the meeting is not open to the public. The public meeting is from 9:30 a.m.-5 p.m. EST on September 24, 2020 and 9 a.m.-5 p.m. EST on September 25, 2020.

ADDRESSES: The meeting is virtual and will be viewed via the web-ex link provided by email when you register for the meeting. Attendees should pre-register for the meeting. See the pre-registration instructions under “Registration and Meeting Materials.”

Public Comments: FSIS invites interested persons to submit comments on this Federal Register notice. Comments may be submitted by one of the following methods:

Federal eRulemaking Portal: This website provides commenters the ability to type short comments directly into the comment field on the web page or to attach a file for lengthier comments. Go to http://www.regulations.gov. Follow the on-line instructions at that site for submitting comments.

Email: Written public comments may be emailed to NACMPI@usda.gov. All written comments are to arrive by September 18, 2020. All items submitted by electronic mail must include the Agency name and docket number FSIS-2020-0027. Comments received in response to this docket will be made available for public inspection and posted without change, including any personal information, to http://www.regulations.gov.

FOR FURTHER INFORMATION CONTACT: Val Green, Designated Federal Officer, Office of Policy and Program Development, FSIS; Telephone: (301) 504-0846; Email: Valeria.Green@usda.gov, regarding specific questions about the committee or this meeting. General information about the committee can also be found at: https://www.fsis.usda.gov/wps/portal/fsis/topics/regulations/advisory-committees/nacmpi.

For the hearing impaired, contact the Federal Information Relay Service: https://www.federalrelay.us/ or 800-877-0996 (Voice, TTY, ASCII or Spanish).

SUPPLEMENTARY INFORMATION:

Background

The NACMPI was established in 1971 and is authorized under section 301(a)(4) of the Federal Meat Inspection Act (FMIA) (21 U.S.C. 661(a)(4)) to carry out the responsibilities imposed by sections 7(c), 24, 205, 301(a)(3), and 301(c) of the FMIA (21 U.S.C. 607(c), 624, 645, 661(a)(3), and 661(c)), and authorized under section 5(s)(4) of the Poultry Products Inspection Act (PPIA) (21 U.S.C. 454(a)(4) to carry out the responsibilities imposed by sections 5(a)(3), 5(c), 8(b), and 11(e) of the PPIA (21 U.S.C. 454(a)(3), 454(c), 457(b), and 460(e)). The purpose of the Committee is to provide advice to the Secretary concerning meat, poultry, and processed egg products inspection; food safety; and other matters that fall within the scope of the FMIA, PPIA and the Egg Products Inspection Act (EPIA). The current charter and other information about NACMPI can be found at https://www.fsis.usda.gov/wps/portal/fsis/topics/regulations/advisory-committees/nacmpi. Membership of NACMPI is drawn from representatives of consumer groups; producers; processors; and representatives from the meat, poultry and egg product industries; State and local government officials; and academia.

On September 24-25, 2020, NACMPI will review and discuss the following two topics. First, FSIS will ask NACMPI to review and advise about the steps FSIS should take to better support the production of artisanal, shelf-stable, ready-to-eat (RTE) fermented, salt-cured, or dried products that rely on multiple hurdles for lethality. FSIS is seeking input on the lack of scientific support and control of hazards for producing these multi-hurdle lethality products that may raise enforcement questions. FSIS will ask the Committee to consider the following: (1) What actions should FSIS take when it determines an establishment lacks scientific support for the lethality treatment of a fermented, salt-cured, or dried product? (2) How can FSIS assist industry in gathering scientific support and facilitate filling research gaps, even though it is not a research-funding organization?

Second, FSIS will ask NACMPI to review and advise whether FSIS should continue not to sample or test boxed beef primal and sub-primal products for STEC, if they are intended for intact cuts. FSIS is seeking input on how FSIS can reduce STEC positives, outbreaks, recalls, and deaths that occur when downstream processors are commonly unaware of the producer's intended intact use or the risks of grinding such products. FSIS will ask the Committee: (1) If an establishment identifies boxed beef primals/sub-primal products as intended for intact cuts, should FSIS continue not to sample or test these products? (2) If yes, how can the current system be strengthened? (3) If no, what criteria should FSIS use to determine which products should be subject to sampling and testing for STEC?

The two issues described above will be presented to the full Committee. The Committee will then divide into two subcommittees to discuss the issues. Each subcommittee will provide a report of their comments and recommendations to the full Committee before the meeting concludes on Friday, September 25, 2020.

An agenda will be published online before the public meeting. FSIS will finalize the agenda on or before the meeting dates and post it on the FSIS website at: http://www.fsis.usda.gov/meetings.

Registration and Meeting Materials

There is no fee to register for the public meeting, but pre-registration is mandatory for participants attending. All attendees must register online at http://www.fsis.usda.gov/wps/portal/fsis/newsroom/meetings.

Public Comments and Participation in Meetings

Oral Comments

Stakeholders will have an opportunity to provide oral comments during the public meeting. Stakeholders must notify FSIS during registration of their wish to speak at the meeting. Stakeholders who do not notify FSIS during registration of their wish to speak will not have the opportunity to comment on the day of the public meeting. Due to the anticipated high level of interest in the opportunity to make public comments and the limited time available to do so, FSIS will do its best to accommodate all persons who registered and requested to provide oral comments and will limit all speakers to three minutes. FSIS encourages persons and groups who have similar interests to consolidate their information for presentation by a single representative.

Transcripts

As soon as the meeting transcripts are available, they will be accessible on the FSIS website at: https://www.fsis.usda.gov/wps/portal/fsis/topics/regulations/advisory-committees/nacmpi/nacmpi-transcripts. The transcripts may also be viewed at the FSIS Docket Room at the address listed above.

Additional Public Notification

Public awareness of all segments of rulemaking and policy development is important. Consequently, FSIS will announce this Federal Register publication on-line through the FSIS web page located at: http://www.fsis.usda.gov/federal-register.

FSIS will also announce and provide a link to this Federal Register publication through the FSIS Constituent Update, which is used to provide information regarding FSIS policies, procedures, regulations, Federal Register notices, FSIS public meetings, and other types of information that could affect or would be of interest to our constituents and stakeholders. The Constituent Update is available on the FSIS web page. Through the web page, FSIS can provide information to a much broader, more diverse audience. In addition, FSIS offers an email subscription service which provides automatic and customized access to selected food safety news and information. This service is available at: http://www.fsis.usda.gov/subscribe. Options range from recalls to export information, regulations, directives, and notices. Customers can add or delete subscriptions themselves and have the option to password protect their accounts.

USDA Non-Discrimination Statement

No agency, officer, or employee of the USDA shall, on the grounds of race, color, national origin, religion, sex, gender identity, sexual orientation, disability, age, marital status, family/parental status, income derived from a public assistance program, or political beliefs, exclude from participation in, deny the benefits of, or subject to discrimination any person in the United States under any program or activity conducted by the USDA.

How To File a Complaint of Discrimination

To file a complaint of discrimination, complete the USDA Program Discrimination Complaint Form, which may be accessed online at http://www.ocio.usda.gov/sites/default/files/docs/2012/Complain_combined_6_8_12.pdf, or write a letter signed by you or your authorized representative.

Send your completed complaint form or letter to USDA by mail, fax, or email:

Mail: U.S. Department of Agriculture Director, Office of Adjudication, 1400 Independence Avenue SW, Washington, DC 20250-9410.

Fax: (202) 690-7442.

Email: program.intake@usda.gov.

Persons with disabilities who require alternative means for communication (Braille, large print, audiotape, etc.), should contact USDA's TARGET Center at (202) 720-2600 (voice and TDD).

Dated: August 18, 2020.
Cikena Reid,
Committee Management Officer.

[FR Doc. 2020-18389 Filed 8-20-20; 8:45 am]

BILLING CODE 3410-DM-P